DEPARTMENT OF JUSTICE

28 CFR Part 36

[CRT Docket No. 126; AG Order No. 3462-2014]

RIN 1190-AA63

Nondiscrimination on the Basis of Disability by Public Accommodations—Movie Theaters; Movie Captioning and Audio Description

AGENCY: Civil Rights Division, Department of Justice.

ACTION: Notice of proposed rulemaking; extension of comment period.

SUMMARY: On August 1, 2014, the Department of Justice published a Notice of Proposed Rulemaking (NPRM) in the Federal Register in order to propose amendments to its Americans with Disabilities Act title III regulation to require the provision of closed movie captioning and audio description to give persons with hearing and vision disabilities access to movies. The comment period is scheduled to close on September 30, 2014. The Department of Justice is extending the comment period until December 1, 2014 in order to provide additional time for the public to prepare comments.

DATES: For the proposed rule published on August 1, 2014 (79 FR 44976), the comment period is extended. All comments must be received by December 1, 2014.

ADDRESSES: Submit electronic comments and other data identified by RIN 1190-AA63, by any one of the following methods:

• Federal eRulemaking Web site at http://www.regulations.gov/#!docketDetail;D=DOJ-CRT-2014-0004. Follow the Web site's instructions for submitting comments.

• Regular U.S. mail: Disability Rights Section, Civil Rights Division, U.S. Department of Justice, P.O. Box 2885, Fairfax, VA 22031-0885.

• Overnight, courier, or hand delivery: Disability Rights Section, Civil Rights Division, U.S. Department of Justice, 1425 New York Avenue NW., Suite 4039, Washington, DC 20005.

FOR FURTHER INFORMATION CONTACT: Zita Johnson-Betts, Deputy Section Chief, Disability Rights Section, Civil Rights Division, U.S. Department of Justice, at (202) 307-0663 (voice or TTY). This is not a toll-free number. Information may also be obtained from the Department's toll-free ADA Information Line at (800) 514-0301 (voice) or (800) 514-0383 (TTY).

You may obtain copies of this document in alternative formats by calling the ADA Information Line at (800) 514-0301 (voice) and (800) 514-0383 (TTY). This notice is also available on the Department's Web site at http://www.ada.gov.

SUPPLEMENTARY INFORMATION:

Extension of Comment Period

The Department of Justice published a Notice of Proposed Rulemaking (NPRM) in the Federal Register on August 1, 2014, proposing amendments to its Americans with Disabilities Act title III regulation to require the provision of closed movie captioning and audio description in order to give persons with hearing and vision disabilities access to movies. The NPRM asked 21 multi-part questions, seeking public comment on a wide range of issues related to the proposed requirements, as well as the Department's analysis of the costs and benefits of the proposed rule. Following publication of the NPRM, the Department received a request to extend the deadline for public comment by an additional 60 days, citing the number and complexity of the data requests on a broad range of topics and the resulting need for additional time in order to provide an informed response to the Department's questions. The Department has decided to grant an extension of the comment period until December 1, 2014. The Department believes this extension provides ample time to allow interested parties to provide comments on this proposed rule. Comments on the NPRM may be provided by December 1, 2014 online at http://www.regulations.gov/#!docketDetail;D=DOJ-CRT-2014-0004 or by mail at P.O. Box 2885, Fairfax, VA 22031-0885.

Dated: September 2, 2014.
Eric H. Holder, Jr.,
Attorney General.

[FR Doc. 2014-21285 Filed 9-5-14; 8:45 am]

BILLING CODE 4410-13-P